DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR part 44 govern the application, processing, and disposition of petitions for modification. This Federal Register Notice notifies the public that MSHA has investigated and issued a final decision on certain mine operator petitions to modify a safety standard.

ADDRESSES: Copies of the final decisions are posted on MSHA's Web Site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign-in.

FOR FURTHER INFORMATION CONTACT: Roslyn B. Fontaine, Acting Director, Office of Standards, Regulations and Variances at 202-693-9475 (Voice), fontaine.roslyn@dol.gov (E-mail), or 202-693-9441 (Telefax), or Barbara Barron at 202-693-9447 (Voice), barron.barbara@dol.gov (E-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2008-053-C.

FR Notice: 73 FR 80435 (December 31, 2008).

Petitioner: South Central Coal Co., Inc. (formerly Heidtman Mining, LLC), 22279 US Hwy 271, Spiro, Oklahoma 74959.

Mine: Sebastian Mine, MSHA I.D. No. 03-01736, located in Sebastian County, Arkansas.

Regulation Affected: 30 CFR 75.1700 (Oil and gas wells).

• Docket Number: M-2009-005-C.

FR Notice: 74 FR 23747 (May 20, 2009).

Petitioner: Pennacle Mining Company, LLC, P.O. Box 338, Pineville, West Virginia 24874.

Mine: Pinnacle Mine, MSHA I.D. No. 46-01816, located in Wyoming County, West Virginia.

Regulation Affected: 30 CFR 75.1700 (Oil and gas wells).

• Docket Number: M-2009-006-C.

FR Notice: 74 FR 23748 (May 20, 2009).

Petitioner: Spartan Mining Company, 300 Kanawha Boulevard, East, P.O. Box 271, Charleston, West Virginia 25321-0273.

Mine: Road Fork #51 Mine, MSHA I.D. No. 46-01544, located in Wyoming County, West Virginia.

Regulation Affected: 30 CFR 75.1700 (Oil and gas wells).

• Docket Number: M-2009-039-C.

FR Notice: 74 FR 63414 (December 3, 2009).

Petitioner: Consol Pennsylvania Coal Company, 1000 Consol Energy Drive, Canonsburg, Pennsylvania 15317.

Mine: Enlow Fork Mine, MSHA I.D. No. 36-07416, located in Washington County, Pennsylvania.

Regulation Affected: 30 CFR 75.1700 (Oil and gas wells).

• Docket Number: M-2009-040-C.

FR Notice: 74 FR 63414 (December 3, 2009).

Petitioner: Consol Pennsylvania Coal Company, Consol Energy Drive, Canonsburg, Pennsylvania 15317.

Mine: Bailey Mine, MSHA I.D. No. 36-07230, located in Green County, Pennsylvania.

Regulation Affected: 30 CFR 75.1700 (Oil and gas wells).

• Docket Number: M-2009-057-C.

FR Notice: 75 FR 3259 (January 20, 2010).

Petitioner: Prairie State Generating Company, LLC, 4274 County Highway 12, Marissa, Illinois 62257.

Mine: Lively Grove Mine, MSHA I.D. No. 11-03193, located in Washington County, Illinois.

Regulation Affected: 30 CFR 75.1700 (Oil and gas wells).

• Docket Number: M-2010-034-C.

FR Notice: 75 FR 57298 (September 20, 2010).

Petitioner: Four O Mining Corporation, P.O. Box 148, Vansant, Virginia 24656.

Mine: No. 10 Mine, MSHA I.D. No. 44-07217, located in Dickenson County, Virginia.

Regulation Affected: 30 CFR 75.1101-2 (Installation of deluge-type sprays)

• Docket Number: M-2010-035-C.

FR Notice: 75 FR 75499 (December 3, 2010).

Petitioner: San Juan Coal Company, P.O. Box 561, Waterflow, New Mexico 87421-0561.

Mine: San Juan Mine 1, MSHA I.D. No. 29-02170, located in San Juan County, New Mexico.

Regulation Affected: 30 CFR 75.500(d) (Permissible electric equipment).

• Docket Number: M-2010-038-C.

FR Notice: 75 FR 81313 (December 27, 2010).

Petitioner: Consol Pennsylvania Coal Company, 1000 Consol Energy Drive, Canonsburg, Pennsylvania 15317.

Mine: Enlow Fork Mine, MSHA I.D. No. 36-07416, located in Washington County, Pennsylvania.

Regulation Affected: 30 CFR 75.503 (Permissible electric face equipment; maintenance) and 30 CFR 18.35(a)(5)(i) (Portable (trailing) cables and cords).

• Docket Number: M-2010-039-C.

FR Notice: 75 FR 81314 (December 27, 2010).

Petitioner: Consol Pennsylvania Coal Company, 1000 Consol Energy Drive, Canonsburg, Pennsylvania 15317.

Mine: Bailey Mine, MSHA I.D. No. 36-07230, located in Green County, Pennsylvania.

Regulation Affected: 30 CFR 75.503 (Permissible electric face equipment; maintenance) and 30 CFR 18.35(a)(5)(i) (Portable (trailing) cables and cords).

• Docket Number: M-2010-040-C.

FR Notice: 76 FR 16641 (March 24, 2011).

Petitioner: Kingston Mining, Inc., Route 1, Box 76-C, Scarbro, West Virginia 25917.

Mine: Kingston No. 1 Mine, MSHA I.D. No. 46-08625, located in Fayette County, West Virginia.

Regulation Affected: 30 CFR 75.1101-1(b) (Deluge-type water spray systems).

• Docket Number: M-2010-045-C.

FR Notice: 76 FR 2723 (January 14, 2011).

Petitioner: Rhino Eastern, LLC, P.O. Box 260, Bolt, West Virginia 25817.

Mine: Eagle No. 1 Mine, MSHA I.D. No. 46-08758, located in Raleigh County, West Virginia.

Regulation Affected: 30 CFR 1101-1(b) (Deluge-type water spray systems).

• Docket Number: M-2010-046-C.

FR Notice: 76 FR 2723 (January 14, 2011).

Petitioner: Cobra Natural Resources, LLC, P.O. Box 40, Wharncliffe, West Virginia 25651.

Mine: Mountaineer Alma A Mine, MSHA I.D. No. 46-08730, located in Mingo County, West Virginia.

Regulation Affected: 30 CFR 75.1101-1(b) (Deluge-type water spray systems).

• Docket Number: M-2010-048-C.

FR Notice: 76 FR 2724 (January 14, 2011).

Petitioner: Canyon Fuel Company, LLC, 597 South S.R. 24, Salina, Utah 84654.

Mine: Sufco Mine, MSHA I.D. No. 42-00089, located in Sevier County, Utah.

Regulation Affected: 30 CFR 75.1002(a) (Installation of electric equipment and conductors; permissibility).

• Docket Number: M-2011-001-M.

FR Notice: 76 FR 16643 (March 24, 2011).

Petitioner: Carmeuse Industrial Sands, 1000 Oglebay Norton Drive, P.O. Box 429, Brady, Texas 76825.

Mine: Brady Plant, MSHA I.D. No. 41-01371, located in McCulloch County, Texas.

Regulation Affected: 30 CFR 56.13020 (Use of compressed air).

Dated: September 15, 2011.
Patricia W. Silvey,
Certifying Officer.

[FR Doc. 2011-24096 Filed 9-19-11; 8:45 am]

BILLING CODE 4510-43-P